DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website. (https://www.treasury.gov/ofac).

Notice of OFAC Actions

On December 14, 2023, OFAC determined that the property and interests in property subject to U.S. jurisdiction of the following persons are blocked under the relevant sanctions authority listed below.

Individuals

1. SALAZAR BALLESTEROS, Joel Alexandro, Mexico; DOB 10 May 1992; POB Sonora, Mexico; nationality Mexico; Gender Male; C.U.R.P. SABJ920510HSRLLL19 (Mexico) (individual) [TCO] (Linked To: MALAS MANAS).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019), (E.O. 13581, as amended) for being owned or controlled by, or having acted or purported to act for or on behalf of, directly or indirectly, MALAS MANAS, a person whose property and interests in property are blocked pursuant to E.O. 13581, as amended.

2. ROMAN FLORES, Luis Eduardo, Mexico; DOB 04 Sep 1982; POB Sonora, Mexico; nationality Mexico; Gender Male; C.U.R.P. ROFL820904HSRMLS05 (Mexico) (individual) [TCO] (Linked To: MALAS MANAS).

Designated pursuant to section 1(a)(ii)(C) of E.O. 13581, as amended, for being owned or controlled by, or having acted or purported to act for or on behalf of, directly or indirectly, MALAS MANAS, a person whose property and interests in property are blocked pursuant to E.O. 13581, as amended.

Entity

1. MALAS MANAS (Latin: MALAS MAÑAS), Sonora, Mexico; Target Type Criminal Organization [TCO].

Designated pursuant to section 1(a)(ii)(A) of E.O. 13581, as amended, for being a foreign person that constitutes a significant transnational criminal organization.

Dated: December 14, 2023.
Bradley T. Smith,
Director, Office of Foreign Assets Control, U.S. Department of the Treasury.

[FR Doc. 2023-27866 Filed 12-18-23; 8:45 am]

BILLING CODE 4810-AL-P